POSTAL SERVICE

Product Change—Priority Mail Express, Priority Mail, and USPS Ground Advantage Negotiated Service Agreements

AGENCY: Postal Service.

ACTION: Notice.

SUMMARY: The Postal Service gives notice of filing a request with the Postal Regulatory Commission to add a domestic shipping services contract to the list of Negotiated Service Agreements in the Mail Classification Schedule's Competitive Products List.

DATES: Date of required notice: December 17, 2025.

FOR FURTHER INFORMATION CONTACT: Sean C. Robinson, 202-268-8405.

SUPPLEMENTARY INFORMATION: The United States Postal Service hereby gives notice that, pursuant to 39 U.S.C. 3642 and 3632(b)(3), it filed with the Postal Regulatory Commission the following requests:

Date filed with Postal Regulatory Commission | Negotiated Service Agreement product category and No. | MC docket No. | K docket No.
12/10/25 | PME-PM-GA 1465 | MC2026-131 | K2026-131
12/11/25 | PME-PM-GA 1466 | MC2026-132 | K2026-132
12/11/25 | PME-PM-GA 1467 | MC2026-133 | K2026-133
12/11/25 | PME-PM-GA 1468 | MC2026-134 | K2026-134

Documents are available at www.prc.gov.

Sean C. Robinson,
Attorney, Corporate and Postal Business Law.

[FR Doc. 2025-23064 Filed 12-16-25; 8:45 am]

BILLING CODE 7710-12-P